DEPARTMENT OF TRANSPORTATION

Federal Aviation Administration

14 CFR Part 39

[Docket No. FAA-2015-8470; Directorate Identifier 2013-NM-199-AD]

RIN 2120-AA64

Airworthiness Directives; Airbus Airplanes

AGENCY: Federal Aviation Administration (FAA), DOT.

ACTION: Notice of proposed rulemaking (NPRM).

SUMMARY: We propose to supersede Airworthiness Directive (AD) 95-21-09, for all Airbus Model A300 series airplanes, and Airbus Model A300 B4-600, B4-600R, and F4-600R series airplanes, and Model A300 C4-605R Variant F airplanes (collectively called Model A300-600 series airplanes). AD 95-21-09 currently requires repetitive inspections for cracking of the No. 2 flap beams, and replacement of the flap beams, if necessary; and provides optional modifications for extending certain inspection thresholds, and an optional terminating modification for certain inspections. Since we issued AD 95-21-09, we have determined that the compliance times must be reduced. This proposed AD would reduce the compliance times for inspections and also reduce the number of airplanes affected. We are proposing this AD to detect and correct cracking of the No. 2 flap beams, which could result in rupture of the flap beams and reduced structural integrity of the airplane.

DATES: We must receive comments on this proposed AD by March 7, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8470; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-8470; Directorate Identifier 2013-NM-199-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 3, 1995, we issued AD 95-21-09, Amendment 39-9395 (60 FR 53847, October 18, 1995). AD 95-21-09 requires actions intended to address an unsafe condition on Airbus Model A300 and A300-600 series airplanes.

Since we issued AD 95-21-09, Amendment 39-9395 (60 FR 53847, October 18, 1995), we have received a report that analyses showed a need for reduced compliance times.

The European Aviation Safety Agency (EASA), which is the Technical Agent for the Member States of the European Union, has issued EASA AD 2013-0234R2, dated October 7, 2013 (referred to after this as the Mandatory Continuing Airworthiness Information, or “the MCAI”), to correct an unsafe condition for certain Airbus Model A300 and A300-600 series airplanes. The MCAI states:

Fatigue and “fail safe” tests developed on a test specimen confirmed that cracks may appear and propagate from the bolt holes of the base member and the side members of flap beam No. 2.

The development of such cracks, if not detected, could result in a rupture of flap beams No. 2, which could adversely affect the structural integrity of the airframe.

To address this potential unsafe condition, Airbus issued Service Bulletin (SB) A300-57-0116 and SB A300-57-6005 and DGAC France issued AD 1986-187-076(B) [available at http://ad.easa.europa.eu/blob/1986-187-076%28B%29R4en.pdf/AD_F-1986-187-076R4_1], later revised, to require a repetitive inspection programme [and corrective action] for A300 and A300-600 aeroplanes. [French AD 86-187-076(B)R3, dated March 2, 1994, corresponds to FAA AD 95-21-09, Amendment 39-9395 (60 FR 53847, October 18, 1995), which superseded FAA AD 85-07-04, Amendment 39-5027 (49 FR 45755, April 2, 1985).]

For A300 aeroplanes, and in the frame of the Extended Service Goal (ESG) exercise, it was shown that design changes (Airbus Mod. 4740/Airbus SB A300-57-0128 or Airbus Mod. 5815/Airbus SB A300-57-0141) were not sufficient to enable full ESG life without inspections.

For A300-600 aeroplanes, since DGAC France AD 1986-187-076(B) was issued, a fleet survey and updated Fatigue and Damage Tolerance analyses have been performed in order to substantiate the second A300-600 ESG2 exercise. Airbus SB A300-57-6005 has been revised accordingly to decrease the inspection thresholds and intervals.

For the reasons described above, this [EASA] AD retains the requirements of DGAC France AD 1986-187-076(B)R4, which is superseded, and requires those inspections to be accomplished at reduced thresholds and intervals.

This [EASA] AD has been revised to correct typographical errors in some compliance times defined in Appendix 1, Tables 1 and 2.

The MCAI also reduces the number of airplanes identified in the applicability by exempting certain Model A300-600 airplanes on which certain Airbus modifications have been embodied. You may examine the MCAI in the AD docket on the Internet at http://www.regulations.gov by searching for and locating Docket No. FAA-2015-8470.

Related Service Information Under 1 CFR Part 51

Airbus has issued Service Bulletins A300-57-0116, Revision 07, dated September 19, 2011; and A300-57-6005, Revision 06, dated November 14, 2013. This service information describes procedures for ultrasonic inspections of the number 2 flap beam base and side members. The actions described in this service information are intended to correct the unsafe condition identified in the MCAI. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Although the MCAI or service information allows further flight after cracks are found during compliance with the required action, paragraph (m) of this proposed AD requires that you replace the flap beam before further flight.

Explanation of “RC” Procedures and Tests in Service Information

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as Required for Compliance (RC) in any service information have a direct effect on detecting, preventing, resolving, or eliminating an identified unsafe condition.

As specified in a NOTE under the Accomplishment Instructions of the specified service information, procedures and tests that are identified as RC in any service information must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in an airworthy condition. Any substitutions or changes to procedures or tests identified as RC will require approval of an AMOC.

Costs of Compliance

We estimate that this proposed AD affects 49 airplanes of U.S. registry.

The actions that are required by AD 95-21-09, Amendment 39-9395 (60 FR 53847, October 18, 1995), and retained in this proposed AD take about 6 work-hours per product, at an average labor rate of $85 per work-hour. Required parts cost about $0 per product. Based on these figures, the estimated cost of the actions that were required by AD 95-21-09 is $510 per product, per inspection cycle.

We also estimate that it would take about 6 work-hours per product to comply with the basic requirements of this proposed AD. The average labor rate is $85 per work-hour. Based on these figures, we estimate the cost of this proposed AD on U.S. operators to be $24,990 per inspection cycle, or $510 per product, per inspection cycle.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 95-21-09, Amendment 39-9395 (60 FR 53847, October 18, 1995), and adding the following new AD:

Airbus: Docket No. FAA-2015-8470; Directorate Identifier 2013-NM-199-AD.

(a) Comments Due Date

We must receive comments by March 7, 2016.

(b) Affected ADs

This AD replaces AD 95-21-09, Amendment 39-9395 (60 FR 53847, October 18, 1995).

(c) Applicability

This AD applies to the Airbus airplanes identified in paragraphs (c)(1) through (c)(5) of this AD, certificated in any category.

(1) Model Airbus Model A300 B2-1A, B2-1C, B2K-3C, B2-203, B4-2C, B4-103, and B4-203 airplanes, all manufacturer serial numbers (MSNs).

(2) Airbus Model A300 B4-601, B4-603, B4-620, B4-622, B4-605R, and B4-622R airplanes, all MSNs.

(3) Airbus Model A300 F4-605R, all MSNs, except those airplanes on which both Airbus Modifications 11133 and 12699 have been embodied.

(4) Airbus Model A300 F4-622R airplanes, all MSNs, except those airplanes on which all Airbus Modifications 11133, 12047, 12048, and 12050 have been embodied, and except those airplanes on which both Airbus Modifications 11133 and 12699 have been embodied.

(5) Airbus Model A300 C4-605R Variant F airplanes, all MSNs.

(d) Subject

Air Transport Association (ATA) of America Code 57, Wings.

(e) Reason

This AD was prompted by a determination that the compliance times must be reduced. We are issuing this AD to detect and correct cracking of the No. 2 flap beams, which could result in rupture of the flap beams and reduced structural integrity of the airplane.

(f) Compliance

Comply with this AD within the compliance times specified, unless already done.

(g) Retained Inspection and Corrective Actions for Model A300 Series Airplanes, With Note 3 of AD 95-21-09, Amendment 39-9395 (60 FR 53847, October 18, 1995), Incorporated and Additional Terminating Provisions

This paragraph restates the requirements of paragraph (a) of AD 95-21-09, Amendment 39-9395 (60 FR 53847, October 18, 1995), with Note 3 of AD 95-21-09 incorporated and additional terminating provisions. For Model A300 series airplanes: Prior to the accumulation of 15,000 total landings, or within the next 120 days after May 9, 1985 (the effective date of AD 85-07-04, Amendment 39-5027 (49 FR 45755, April 2, 1985)), whichever occurs later, inspect for cracking of the base steel member and light alloy side members of the No. 2 flap beams, left hand and right hand, in accordance with the Accomplishment Instructions of Airbus Service Bulletin A300-57-116, Revision 6, dated July 16, 1993. Accomplishing the requirements of paragraph (h) or (l) of this AD terminates the requirements of this paragraph. Measurement of crack length is performed by measurement of the probe displacement (perpendicular to symmetry plane of beam) between defect indication appearance and its complete disappearance. The bolt hole indication should not be interpreted as an indication of a defect. These two indications appear very close together because the defects originate from the bolt holes.

(1) If no cracking is detected: Except as provided by paragraph (i) of this AD, repeat the inspection at intervals not to exceed 1,700 landings until the requirements of paragraph (h) or (l) of this AD are accomplished.

(2) If any crack is detected that is less than or equal to 4 mm: Repeat the inspection at intervals not to exceed 250 landings, until the requirements of paragraph (h) or (l) of this AD are accomplished.

(3) If any crack is detected that exceeds 4 mm: Prior to further flight, replace the flap beam in accordance with the Accomplishment Instructions of Airbus Service Bulletin A300-57-116, Revision 6, dated July 16, 1993, and prior to the accumulation of 15,000 flight cycles on the replaced flap beam, perform the ultrasonic inspection as required by paragraph (h) or (l) of this AD.

(h) Retained Ultrasonic Inspection and Corrective Action for Model A300 Series Airplanes, With Additional Terminating Provisions

This paragraph restates the requirements of paragraph (b) of AD 95-21-09, Amendment 39-9395 (60 FR 53847, October 18, 1995), with additional terminating provisions. For Model A300 series airplanes: Prior to the accumulation of 15,000 total landings, or within the next 1,000 landings after November 17, 1995 (the effective date of AD 95-21-09), whichever occurs later, perform an ultrasonic inspection to detect cracking of the No. 2 flap beams, in accordance with Airbus Service Bulletin A300-57-116, Revision 6, dated July 16, 1993. Accomplishment of this inspection terminates the inspections required by paragraph (g) of this AD. Accomplishment of the requirements of paragraph (l) of this AD terminates the requirements of this paragraph.

(1) If no cracking is detected: Except as provided by paragraph (i) of this AD, repeat the ultrasonic inspections thereafter at intervals not to exceed 1,700 landings.

(2) If any crack is detected beyond the bolt hole, and that crack is less than or equal to 4 mm in length: Repeat the ultrasonic inspections thereafter at intervals not to exceed 250 landings.

(3) If any crack is detected beyond the bolt hole and that crack is greater than 4 mm in length: Prior to further flight, replace the flap beam in accordance with Airbus Service Bulletin A300-57-116, Revision 6, dated July 16, 1993, and prior to the accumulation of 15,000 flight cycles on the replaced flap beam, perform the ultrasonic inspection as required by this paragraph.

(i) Retained Modification of the No. 2 Track Beam for Model A300 Series Airplanes, With Changes to Compliance Extension

This paragraph restates the provisions of paragraph (c) of AD 95-21-09, Amendment 39-9395 (60 FR 53847, October 18, 1995), with changes to compliance extension. For Model A300 series airplanes: After accomplishing the initial inspection required by paragraph (h) of this AD, accomplishment of either paragraph (i)(1) or (i)(2) of this AD before the effective date of this AD extends the fatigue life of the No. 2 flap track beam as specified in those paragraphs, provided that no cracking is detected during any inspection required by paragraph (g) or (h) of this AD.

(1) Removal of any damage and the installation of larger diameter bolts on the No. 2 flap track beam (Modification No. 4740), in accordance with Airbus Service Bulletin A300-57-128, Revision 3, dated January 26, 1990, extends the interval for the first repetitive inspection required by paragraph (h) of this AD from 1,700 landings to 12,000 landings, provided that Modification No. 4740 is accomplished prior to the accumulation of 16,700 total landings on the flap beams. Following accomplishment of the first repetitive inspection, subsequent repetitive inspections shall be performed at intervals not to exceed 1,700 landings. Or

(2) Cold working of the bolt holes and the installation of larger diameter bolts on the No. 2 flap track beam (Modification No. 5815), in accordance with Airbus Service Bulletin A300-57-141, Revision 7, dated July 16, 1993, extends the interval for the first repetitive inspection required by paragraph (h) of this AD from 1,700 landings to the interval specified in paragraph (i)(2)(i) or (i)(2)(ii) of this AD.

(i) If interference fit bolts that are 15/32-inch in diameter are fitted, the interval for the first repetitive inspection required by paragraph (h) of this AD is extended to 22,000 landings, provided that Modification 5815 is accomplished prior to the accumulation of 16,700 total landings on the flap beam. Following accomplishment of the first repetitive inspection required by paragraph (h) of this AD, subsequent repetitive inspections shall be performed at intervals not to exceed 1,700 landings. Or

(ii) If interference fit bolts that are 7/16- or 3/8-inch in diameter are fitted, the interval for the first repetitive inspection required by paragraph (h) of this AD is extended to 33,000 landings, provided that Modification 5815 is accomplished prior to the accumulation of 16,700 total landings on the flap beam. Following accomplishment of the first repetitive inspection required by paragraph (h) of this AD, subsequent repetitive inspections shall be performed at intervals not to exceed 1,700 landings.

(j) Retained Ultrasonic Inspection and Corrective Actions for Model A300-600 Series Airplanes, With Terminating Provisions

This paragraph restates the requirements of paragraph (d) of AD 95-21-09, Amendment 39-9395 (60 FR 53847, October 18, 1995), with terminating provisions. For Model A300-600 series airplanes: Prior to the accumulation of 15,000 total landings, or within the next 1,000 landings after November 17, 1995 (the effective date of AD 95-21-09), whichever occurs later, perform an ultrasonic inspection to detect cracking of the No. 2 flap track beams, in accordance with Airbus Service Bulletin A300-57-6005, Revision 2, dated December 16, 1993. Accomplishing the actions required by paragraph (l) of this AD terminates the requirements of this paragraph.

(1) If no cracking is detected, repeat the ultrasonic inspections thereafter at intervals not to exceed 1,700 landings.

(2) If any crack is detected beyond the bolt hole and that crack is less than or equal to 4 mm in length: Repeat the ultrasonic inspections thereafter at intervals not to exceed 250 landings.

(3) If any crack is detected beyond the bolt hole and that crack is greater than 4 mm in length: Prior to further flight, replace the flap beam in accordance with Airbus Service Bulletin A300-57-6005, Revision 2, dated December 16, 1993, and prior to the accumulation of 15,000 landings on the replaced flap beam, perform the ultrasonic inspection required by paragraph (j) of this AD.

(k) Retained Optional Action With Note 5 of AD 95-21-09 Amendment 39-9395 (60 FR 53847, October 18, 1995), Incorporated and Changes to Terminating Action

This paragraph restates the provisions of paragraph (e) of AD 95-21-09, Amendment 39-9395 (60 FR 53847, October 18, 1995), with Note 5 of AD 95-21-09 incorporated and changes to terminating action. For Model A300-600 series airplanes: Installation of oversized transition fit bolts in cold-worked holes, in accordance with Airbus Service Bulletin A300-57-6006 (Modification 5815), Revision 4, dated July 25, 1994, constitutes terminating action for the repetitive inspection requirements of paragraph (j) of this AD, provided that no cracking is detected during any inspection required by paragraph (j) of this AD, and provided that the installation is accomplished prior to the accumulation of 15,000 total landings and before the effective date of this AD. If any bolt requires oversizing above 7/16-inch diameter during accomplishment of this installation, prior to further flight, repair using a method approved by the Manager, Standardization Branch, ANM-113, FAA, Transport Airplane Directorate, or by the Manager, International Branch, ANM-116, Transport Airplane Directorate, FAA. As of the effective date of this AD, any new repair approval must be done using a method approved by the Manager, International Branch, ANM-116, Transport Airplane Directorate, FAA. If Airbus Service Bulletin A300-57-6005, Revision 2, dated December 16, 1993, is accomplished concurrently with Airbus Service Bulletin A300-57-6006, Revision 3, dated December 16, 1993 (Modification 5815), the ultrasonic inspection for cracking required by paragraph (j) of this AD need not be performed since the eddy current inspection detailed for Modification 5815 is more comprehensive.

(l) New Requirement of This AD: Initial and Repetitive Ultrasonic Inspections

At the applicable time specified in paragraph (l)(1) or (l)(2) of this AD and, thereafter at intervals not to exceed those defined in table 3 to paragraph (l) of this AD, as applicable, accomplish an ultrasonic inspection for cracking of the steel base member and the aluminum side members' flap beam on the left-hand (LH) and right-hand (RH) sides in accordance with the Accomplishment Instructions of Airbus Service Bulletin A300-57-0116, Revision 07, dated September 19, 2011, including Appendixes A and B, undated; or Airbus Service Bulletin A300-57-6005, Revision 06, dated November 14, 2013; as applicable. For the purposes of this AD, average flight time (AFT) is considered to be the number of flight hours per flight cycle. Doing the actions required by this paragraph terminates the requirements of paragraphs (g) through (k) of this AD.

(1) For Model A300 B2-1A, B2-1C, B2K-3C, B2-203, B4-2C, B4-103, and B4-203 airplanes (referred to as Model A300 series airplanes): Within the applicable compliance time defined in table 1 to paragraph (l) of this AD.

(2) For Model A300 B4-601, B4-603, B4-620, B4-622, B4-605R, B4-622R, F4-605R, F4-622R, F4-622R airplanes, and Model A300 C4-605R Variant F airplanes (referred to as Model A300-600 series airplanes): At the later of the times specified in paragraphs (l)(2)(i) and (l)(2)(ii) of this AD.

(i) Within the compliance time defined in table 2 to paragraph (l) of this AD.

(ii) Within 300 flight cycles or 640 flight hours after the effective date of this AD, whichever occurs first.

Table 1 to Paragraph (l) of This AD—Inspection Compliance Times for Model A300 Series Airplanes
Airplane configuration | Compliance times for airplanes with an AFT of less than 1.5 | Compliance times for airplanes with an AFT of more than or equal to 1.5
Model A300 B2-1A, B2-1C, B2K-3C, B2-203 airplanes on which Airbus Modifications 4740 and 5815 have not been embodied | Within 15,000 flight cycles or 16,900 flight hours since first flight of the airplane, whichever occurs first | Within 15,000 flight cycles or 16,900 flight hours since first flight of the airplane, whichever occurs first.
Model A300 B4-103 airplanes on which Airbus Modifications 4740 and 5815 have not been embodied | Within 15,000 flight cycles or 20,500 flight hours since first flight of the airplane, whichever occurs first | Within 15,000 flight cycles or 20,500 flight hours since first flight of the airplane, whichever occurs first.
Model A300 B4-2C, and B4-203 airplanes on which Airbus Modifications 4740 and 5815 have not been embodied | Within 16,200 flight cycles or 22,200 flight hours since first flight of the airplane, whichever occurs first | Within 15,000 flight cycles or 34,000 flight hours since first flight of the airplane, whichever occurs first.
Model A300 B2-1A, B2-1C, B2K-3C, B2-203 airplanes on which Airbus Modification 4740 has been embodied | Within 12,000 flight cycles or 13,500 flight hours since embodiment of Airbus Modification 4740, whichever occurs first | Within 12,000 flight cycles or 13,500 flight hours since embodiment of Airbus Modification 4740, whichever occurs first.
Model A300 B4-103 airplanes on which Airbus Modification 4740 has been embodied | Within 12,000 flight cycles or 16,400 flight hours since embodiment of Airbus Modification 4740, whichever occurs first | Within 12,000 flight cycles or 16,400 flight hours since embodiment of Airbus Modification 4740, whichever occurs first.
Model A300 B4-2C, and B4-203 airplanes on which Airbus Modification 4740 has been embodied | Within 12,900 flight cycles or 17,700 flight hours since embodiment of Airbus Modification 4740, whichever occurs first | Within 12,000 flight cycles or 27,200 flight hours since embodiment of Airbus Modification 4740, whichever occurs first.
Model A300 B2-1A, B2-1C, B2K-3C, B2-203 airplanes on which Airbus Modification 5815 has been embodied and no bolt larger than 7/16-inch diameter is fitted | Within 33,000 flight cycles or 37,200 flight hours since embodiment of Airbus Modification 5815, whichever occurs first | Within 33,000 flight cycles or 37,200 flight hours since embodiment of Airbus Modification 5815, whichever occurs first.
Model A300 B4-103 airplanes on which Airbus Modification 5815 has been embodied and no bolt larger than 7/16-inch diameter is fitted | Within 33,000 flight cycles or 45,200 flight hours since embodiment of Airbus Modification 5815, whichever occurs first | Within 33,000 flight cycles or 45,200 flight hours since embodiment of Airbus Modification 5815, whichever occurs first.
Model A300 B4-2C, and B4-203 airplanes on which Airbus Modification 5815 has been embodied and no bolt larger than 7/16-inch diameter is fitted | Within 35,600 flight cycles or 48,800 flight hours since embodiment of Airbus Modification 5815, whichever occurs first | Within 33,000 flight cycles or 74,900 flight hours since embodiment of Airbus Modification 5815, whichever occurs first.
Model A300 B2-1A, B2-1C, B2K-3C, B2-203 airplanes on which Airbus Modification 5815 has been embodied and at least one bolt with a 15/32-inch diameter is fitted | Within 22,000 flight cycles or 24,800 flight hours since embodiment of Airbus Modification 5815, whichever occurs first | Within 22,000 flight cycles or 24,800 flight hours since embodiment of Airbus Modification 5815, whichever occurs first.
Model A300 B4-103 airplanes on which Airbus Modification 5815 has been embodied and at least one bolt with a 15/32-inch diameter is fitted | Within 22,000 flight cycles or 30,100 flight hours since embodiment of Airbus Modification 5815, whichever occurs first | Within 22,000 flight cycles or 30,100 flight hours since embodiment of Airbus Modification 5815, whichever occurs first.
Model A300 B4-2C, and B4-203, airplanes on which Airbus Modification 5815 has been embodied and at least one bolt with a 15/32-inch diameter is fitted | Within 23,700 flight cycles or 32,500 flight hours since embodiment of Airbus Modification 5815, whichever occurs first | Within 22,000 flight cycles or 49,900 flight hours since embodiment of Airbus Modification 5815, whichever occurs first.

Table 2 to Paragraph (l) of This AD—Compliance Times for Model A300-600 Series Airplanes
Airplane configuration | Compliance times for airplanes with an AFT of less than 1.5 | Compliance times for airplanes with an AFT of more than or equal to 1.5
Model A300-600 series airplanes on which Airbus Modification 5815 and Airbus Modification 11133 have not been embodied | Within 16,200 flight cycles or 24,300 flight hours since first flight of the airplane, whichever occurs first | Within 15,000 flight cycles or 32,400 flight hours since first flight of the airplane, whichever occurs first.
Model A300-600 series airplanes on which Airbus Modification 5815 has been embodied and no bolt larger than 7/16-inch diameter is fitted | Within 35,600 flight cycles or 53,400 flight hours since embodiment of Airbus Modification 5815, whichever occurs first | Within 33,000 flight cycles or 71,200 flight hours since embodiment of Airbus Modification 5815, whichever occurs first.
Model A300-600 series airplanes on which Airbus Modification 5815 has been embodied and at least one bolt 15/32-inch diameter is fitted | Within 23,700 flight cycles or 35,600 flight hours since embodiment of Airbus Modification 5815, whichever occurs first | Within 22,000 flight cycles or 47,500 flight hours since embodiment of Airbus Modification 5815, whichever occurs first.
Model A300-600 series airplanes on which Airbus Modification 11133 has been embodied | Within 35,600 flight cycles or 53,400 flight hours since first flight, whichever occurs first | Within 33,000 flight cycles or 71,200 flight hours since first flight, whichever occurs first.

Table 3 to Paragraph (l) of This AD—Repetitive Inspection Intervals
Airplane models | Repetitive interval (not to exceed) for airplanes with an AFT of less than 1.5 | Repetitive interval (not to exceed) for airplanes with an AFT equal to or more than 1.5
A300 B2-1A, B2-1C, B2K-3C, B2-203 | 1,500 flight cycles or 1,600 flight hours, whichever occurs first | 1,500 flight cycles or 1,600 flight hours, whichever occurs first.
A300B4-103 airplanes | 1,500 flight cycles or 2,000 flight hours, whichever occurs first | 1,500 flight cycles or 2,000 flight hours, whichever occurs first.
A300 B4-2C, and B4-203 | 1,600 flight cycles or 2,200 flight hours, whichever occurs first | 1,500 flight cycles or 3,400 flight hours, whichever occurs first.
A300-600 series airplanes | 1,600 flight cycles or 2,400 flight hours, whichever occurs first | 1,500 flight cycles or 3,200 flight hours, whichever occurs first.

(m) New Requirement of This AD: Corrective Action

If any crack is found during any inspection required by paragraph (l) of this AD: Before further flight, replace the flap beam using a method approved by the Manager, International Branch, ANM-116, Transport Airplane Directorate, FAA; or the European Aviation Safety Agency (EASA); or Airbus's EASA Design Organization Approval (DOA). Replacement of the flap beam does not constitute terminating action for the inspections required by paragraph (l) of this AD.

(n) Credit for Previous Actions

(1) This paragraph provides credit for inspections required by paragraph (g) of this AD, if those inspections were performed before November 17, 1995 (the effective date of AD 95-21-09, Amendment 39-9395 (60 FR 53847, October 18, 1995)) using Airbus Service Bulletin A300-57-116, Revision 1, dated August 27, 1983; Revision 2, dated April 24, 1984; Revision 3, dated July 20, 1984; Revision 4, dated August 13, 1986; or Revision 5, dated July 10, 1989; as applicable.

(2) This paragraph provides credit for actions required by paragraph (l) of this AD, if those actions were performed before the effective date of this AD using the applicable service information identified in paragraphs (n)(2)(i) through (n)(2)(x) of this AD.

(i) Airbus Service Bulletin A300-57-6005, Revision 03, dated November 25, 1997, which was not previously incorporated by reference.

(ii) Airbus Service Bulletin A300-57-6005, Revision 04, dated October 25, 1999, which was not previously incorporated by reference.

(iii) Airbus Service Bulletin A300-57-6005, Revision 05, dated April 25, 2013, which was not previously incorporated by reference.

(iv) Airbus Service Bulletin A300-57-6005, Revision 2, dated December 16, 1993, which was previously incorporated by reference on November 17 1995 (60 FR 53847, October 18, 1995).

(v) Airbus Service Bulletin A300-57-116, Revision 1, dated August 27, 1983, which was not previously incorporated by reference.

(vi) Airbus Service Bulletin A300-57-116, Revision 2, dated April 24, 1984, which was not previously incorporated by reference.

(vii) Airbus Service Bulletin A300-57-116, Revision 3, dated July 20, 1984, which was not previously incorporated by reference.

(viii) Airbus Service Bulletin A300-57-116, Revision 4, dated August 13, 1986, which was not previously incorporated by reference.

(ix) Airbus Service Bulletin A300-57-116, Revision 5, dated July 10, 1989, which was not previously incorporated by reference.

(x) Airbus Service Bulletin A300-57-116, Revision 6, dated July 16, 1993, which was previously incorporated by reference on November 17, 1995 (60 FR 53847, October 18, 1995).

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 95-21-09, Amendment 39-9395 (60 FR 53847, October 18, 1995), are approved as AMOCs for the corresponding provisions of paragraphs (g) through (j) of this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): Except as required by paragraph (m) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(p) Related Information

(1) Refer to Mandatory Continuing Airworthiness Information (MCAI) EASA AD 2013-0234R2, dated October 7, 2013, for related information. This MCAI may be found in the AD docket on the Internet at http://www.regulations.gov by searching for and locating Docket No. FAA-2015-8470.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on January 6. 2016.
Victor Wicklund,
Acting Manager, Transport Airplane Directorate, Aircraft Certification Service.

[FR Doc. 2016-00634 Filed 1-19-16; 8:45 am]

BILLING CODE 4910-13-P